DEPARTMENT OF COMMERCE

Foreign-Trade Zones Board

[B-33-2021]

Foreign-Trade Zone (FTZ) 293—Limon, Colorado; Notification of Proposed Production Activity; Kaiser Premier LLC (Special Purpose Vehicles); Fort Morgan, Colorado

The Town of Limon, Colorado, grantee of FTZ 293, submitted a notification of proposed production activity to the FTZ Board on behalf of Kaiser Premier LLC (Kaiser), located in Fort Morgan, Colorado. The notification conforming to the requirements of the regulations of the FTZ Board (15 CFR 400.22) was received on April 19, 2021.

The Kaiser facility is located within Subzone 293A. The facility is used for production of special purpose vehicles. Pursuant to 15 CFR 400.14(b), FTZ activity would be limited to the specific foreign-status materials and components and specific finished products described in the submitted notification (as described below) and subsequently authorized by the FTZ Board.

Production under FTZ procedures could exempt Kaiser from customs duty payments on the foreign-status components used in export production. On its domestic sales, for the foreign-status materials/components noted below, Kaiser would be able to choose the duty rates during customs entry procedures that apply to combined sewer cleaning and water recycling vehicles and hydro excavation equipment vehicles (duty free). Kaiser would be able to avoid duty on foreign-status components which become scrap/waste. Customs duties also could possibly be deferred or reduced on foreign-status production equipment.

The components and materials sourced from abroad include back end vehicle body kits, water distributors, hose booms, hose guides, hand reels, water recycling systems, high pressure pumps, control cabinets, stainless steel tank covers, vacuum pumps, and copper check valves (duty rate ranges from duty free to 3.0%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is June 9, 2021.

A copy of the notification will be available for public inspection in the “Reading Room” section of the Board's website, which is accessible via www.trade.gov/ftz.

For further information, contact Juanita Chen at juanita.chen@trade.gov or 202-482-1378.

Dated: April 26, 2021.
Andrew McGilvray,
Executive Secretary.

[FR Doc. 2021-09073 Filed 4-29-21; 8:45 am]

BILLING CODE 3510-DS-P